DEPARTMENT OF ENERGY

Federal Energy Regulatory Commission

[Docket No. CP03-47-000]

Williston Basin Interstate Pipeline Company; Notice of Application

February 7, 2003.

On January 31, 2003, Williston Basin Interstate Pipeline Company (Williston Basin), P. O. Box 5601, Bismarck, North Dakota 58506-5601 filed in Docket No. CP03-47-000, an application pursuant to Section 7(b) of the Natural Gas Act (NGA), as amended, and part 157 of the regulations of the Federal Energy Regulatory Commission (Commission), for authorization to abandon approximately 21.4 miles of natural gas transmission pipeline loop and a related receipt point meter station all located in Big Horn County, Wyoming, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Any questions concerning this application may be directed to Keith A. Tiggelaar, Director, Regulatory Affairs, Williston Basin Interstate Pipeline Company, P. O. Box 5601, Bismarck, North Dakota 58506-5601, at (701) 530-1560 or keith.tiggelaar@wbip.com.

Williston Basin states that it will be abandoning the Rairden-Greybull Loop (Rairden Loop) which is located in Big Horn County, Wyoming and consists of 21.4 miles of 12 ¾-inch natural gas transmission pipeline. Additionally, Williston Basin states that it will abandon the Dobie Creek receipt point meter station (Dobie Creek Meter Station), which is connected to the Rairden Loop and is also located in Big Horn County, Wyoming. Williston Basin states that the primary purpose of the Rairden Loop was to increase the maximum capacity of Williston Basin's Worland to Cabin Creek line section and the increased capacity allowed the transfer of additional gas volumes to Williston Basin's Elk Basin storage field. Williston Basin states that in September of 1999 it was discovered that the Rairden Loop was severely corroded due to failed pipeline coating. Upon this discovery, Williston Basin states that the Office of Pipeline Safety was notified of a generalized corrosion condition and that the maximum allowable operating pressure (MAOP) of the Rairden Loop line was reduced to ensure the continued safe operation of those facilities and the remaining parties who were utilizing the facilities were informed that they should attempt to find other transportation alternatives. As a result of these consultations, all of the parties who previously used these facilities have found other transportation alternatives, and no volumes have been transported on this line since February 12, 2002. In addition to being severely corroded, Williston Basin states that much of the original production for which the Rairden Loop was constructed has declined and that competition from other pipelines in the Rairden Loop area has resulted in decreased demand for the Rairden Loop facilities. Consequently, Williston Basin states that it has been determined that the Rairden Loop is no longer required and is seeking abandonment as the safest and most economical course of action.

Williston Basin states that Montana-Dakota constructed the Dobie Creek Meter Station under blanket authority and reported the construction in its Annual Report of Activities under Blanket Certificate in Docket No. CP78-101-000. Williston Basin states that the Dobie Creek Meter Station was originally constructed to facilitate a gas purchase agreement with American Quasar Petroleum Company. Accordingly, Williston Basin states that the Dobie Creek Meter Station is being abandoned because no customer has received service through this meter station since February 12, 2002, and Williston Basin believes that requests for service will not occur in the future. Consequently, Williston Basin is requesting Commission authorization to abandon the Dobie Creek Meter Station facilities.

There are two ways to become involved in the Commission's review of this project. First, any person wishing to obtain legal status by becoming a party to the proceedings for this project should file with the Federal Energy Regulatory Commission, 888 First Street, NE., Washington, DC 20426, a motion to intervene in accordance with the requirements of the Commission's rules of practice and procedure (18 CFR 385.214 or 385.211) and the regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: February 27, 2003.

Magalie R. Salas,
Secretary.

[FR Doc. 03-3651 Filed 2-13-03; 8:45 am]

BILLING CODE 6717-01-P